DEPARTMENT OF THE INTERIOR

Bureau of Land Management

[BLM_NV_FRN_MO45001720402]

Notice of Segregation of Public Land for the Stagecoach Wind Project, White Pine County, Nevada

AGENCY: Bureau of Land Management, Department of Interior.

ACTION: Notice of segregation.

SUMMARY: Through this notice the BLM is segregating public lands included in the right-of-way application for the Stagecoach Wind Project from appropriation under the public land laws, including the Mining Law but not the Mineral Leasing or Material Sales Acts, for a period of two years from the date of publication of this notice, subject to valid existing rights. This segregation is to allow for the orderly administration of the public lands to facilitate consideration of development of renewable energy resources. The public lands segregated by this notice totals 69,431.23 acres.

DATES: This segregation for the lands identified in this notice is effective on October 3, 2023.

FOR FURTHER INFORMATION CONTACT: For further information and/or to have your name added to the mailing list, send requests to: Brian Buttazoni, Planning & Environmental Specialist, at: telephone, 775-861-6491; address, 1340 Financial Boulevard, Reno, NV 89502; or by email: StagecoachWind@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Regulations found at 43 CFR 2091.3-1(e) and 2804.25(f) allow the BLM to temporarily segregate public lands within a right-of-way application area for wind energy development from the operation of the public land laws, including the Mining Law, by publication of a Federal Register notice. The BLM uses this temporary segregation authority to preserve its ability to approve, approve with modifications, or deny proposed rights-of-way, and to facilitate the orderly administration of the public lands. This temporary segregation is subject to valid existing rights, including existing mining claims located before this segregation notice. Licenses, permits, cooperative agreements, or discretionary land use authorizations of a temporary nature which would not impact lands identified in this notice may be allowed with the approval of an authorized officer of the BLM during the segregation period. The lands segregated under this notice are legally described as follows: Mount Diablo Meridian,

Nevada

Mount Diablo Meridian, Nevada

T. 16 N., R. 56 E.,

Secs. 1 thru 5, secs. 8 thru 16, and secs. 21 thru 24;

Secs. 25, N1/2 and SW1/4;

sec. 26;

Secs. 27, NE1/4, E1/2NW1/4, and SE1/4;

Secs. 34, NE1/4NE1/4;

Secs. 35, N1/2NE1/4 and N1/2NW1/4;

Secs. 36, N1/2NW1/4.

T. 17 N., R. 56 E.,

Secs. 1 thru 4;

Secs. 5, lots 1 thru 4, S1/2NE1/4, S1/2NW1/4, SW1/4, N1/2SE1/4, and SE1/4SE1/4;

Secs. 7 thru 13;

Secs. 14, NE1/4NE1/4, S1/2NE1/4, W1/2, and SE1/4;

Secs. 15 thru 36.

T. 18 N., R. 56 E.,

Secs. 1 and 2;

Secs. 10 thru 15;

Secs. 21, NE1/4, NE1/4NW1/4, S1/2NW1/4, and S1/2;

Secs. 22 thru 27;

Secs. 28, NE1/4, W1/2NW1/4, SE1/4NW1/4, N1/2SW1/4, SE1/4SW1/4, and SE1/4;

Secs. 32;

Secs. 33, NE1/4, NE1/4NW1/4, S1/2NW1/4, and S1/2;

Secs. 34 thru 36.

T. 19 N., R. 56 E.,

Secs. 35 and 36.

T. 16 N., R. 57 E.,

Secs. 6, 7, and 18;

Secs. 19, lots 1 thru 4, N1/2NE1/4, SW1/4NE1/4, E1/2NW1/4, E1/2SW1/4, W1/2SE1/4, and SE1/4SE1/4;

Secs. 30, lots 1 and 2, NE1/4, and E1/2NW1/4.

T. 17 N., R. 57 E.,

Secs. 5 thru 8, secs. 17 thru 20, and secs. 29 thru 32.

T. 18 N., R. 57 E.,

Secs. 5 thru 8, secs. 17 thru 20, and secs. 29 thru 32.

T. 19 N., R. 57 E.,

Secs. 31 and 32.

The area described contains 69,431.23 acres, according to the official plats of the surveys of the said lands on file with the BLM. As provided in the regulations, the segregation of lands in this notice will not exceed two years from the date of publication unless extended for an additional two years through publication of a new notice in the Federal Register. The segregation period will terminate and the land will automatically reopen to appropriation under the public land laws, including the mining laws, at the earliest of the following dates: upon issuance of a decision by the authorized officer granting, granting with modifications, or denying the application for a right-of-way; without further administrative action at the end of the segregation provided for in the Federal Register notice initiating the segregation; or upon publication of a Federal Register notice terminating the segregation.

Upon termination of the segregation of these lands, all lands subject to this segregation would automatically reopen to appropriation under the public land laws, including the mining laws.

Authority: 43 CFR 2091.3-1(e) and 43 CFR 2804.25(f).

Robbie J. McAboy,
District Manager Ely.

[FR Doc. 2023-21741 Filed 10-2-23; 8:45 am]

BILLING CODE 4331-21-P